DEPARTMENT OF DEFENSE

Department of the Army, Corps of Engineers

33 CFR Part 334

Restricted Area at Blount Island Command and Marine Corps Support Facility—Blount Island, Jacksonville, FL

AGENCY: United States Army Corps of Engineers, Department of Defense.

ACTION: Final rule.

SUMMARY: The U.S. Army Corps of Engineers (Corps) is amending the existing regulations for a restricted area at Blount Island Command, located on Marine Corps Support Facility—Blount Island, Jacksonville, Florida. Blount Island Command is responsible for managing the United States Marine Corps Prepositioning Programs. Due to the importance of this mission, the current restricted area in this section must be extended due to Department of Defense (DoD) directives that require the implementation of specified force protection measures by all DoD components. This amendment to the existing regulation is necessary to protect U.S government personnel, equipment, and facilities from potential terrorist attack by providing stand-off corridors encompassing the waters immediately contiguous to Marine Corps Support Facility—Blount Island.

DATES: Effective Date: October 20, 2008.

ADDRESSES: U.S. Army Corps of Engineers, Attn: CECW-CO (David B. Olson), 441 G Street, NW., Washington, DC 20314-1000.

FOR FURTHER INFORMATION CONTACT: Mr. David Olson, Headquarters, Operations and Regulatory Community of Practice, Washington, DC at 202-761-4922 or Mr. Jon M. Griffin, U.S. Army Corps of Engineers, Jacksonville District, Regulatory Division, at 904-232-1680.

SUPPLEMENTARY INFORMATION: Pursuant to its authorities in Section 7 of the Rivers and Harbors Act of 1917 (40 Stat 266; 33 U.S.C. 1) and Chapter XIX of the Army Appropriations Act of 1919 (40 Stat 892; 33 U.S.C. 3) the Corps is amending the regulations in 33 CFR part 334 by modifying § 334.515. The modification to the existing restricted area is described below.

The proposed rule was published in the June 10, 2008, issue of the Federal Register (73 FR 32665), and its regulations.gov docket number is COE-2007-0037. No comments were received in response to the proposed rule.

The amendment to this regulation will allow the Commanding Officer, Blount Island Command and Marine Corps Support Facility—Blount Island to restrict passage of persons, watercraft, and vessels in waters contiguous to this Command, thereby ensuring that DoD force protection requirements are met and antiterrorism measures are properly implemented as required by DoD directives.

Procedural Requirements

a. Review Under Executive Order 12866. This rule is issued with respect to a military function of the Defense Department and the provisions of Executive Order 12866 do not apply.

b. Review Under the Regulatory Flexibility Act. The rule has been reviewed under the Regulatory Flexibility Act (Pub. L. 96-354) which requires the preparation of a regulatory flexibility analysis for any regulation that will have a significant economic impact on a substantial number of small entities (i.e., small businesses and small governments). The Corps determined that the economic impact of the amendment of this restricted area would have practically no impact on the public, or result in no anticipated navigational hazard or interference with existing waterway traffic. This rule will have no significant economic impact on small entities.

c. Review Under the National Environmental Policy Act. This regulation will not have a significant impact to the quality of the human environment and, therefore, preparation of an environmental impact statement will not be required. An environmental assessment has been prepared. It may be reviewed at the district office listed at the end of FOR FURTHER INFORMATION CONTACT, above.

d. Unfunded Mandates Act. This rule does not impose an enforceable duty among the private sector and, therefore, is not a Federal private sector mandate and is not subject to the requirements of section 202 or 205 of the Unfunded Mandates Reform Act (Pub. L. 104-4, 109 Stat. 48, 2 U.S.C. 1501 et seq.). We have also found under Section 203 of the Act, that small governments will not be significantly or uniquely affected by this rule.

List of Subjects in 33 CFR Part 334

Danger zones, Navigation (water), Restricted areas, Waterways.

For the reasons set out in the preamble, the Corps amends 33 CFR part 334 as follows:

PART 334—DANGER ZONE AND RESTRICTED AREA REGULATIONS

1. The authority citation for part 334 continues to read as follows:

Authority: 40 Stat. 266 (33 U.S.C. 1) and 40 Stat. 892 (33 U.S.C. 3).

2. Revise § 334.515 to read as follows:

§ 334.515 Blount Island Command and Marine Corps Support Facility-Blount Island; Jacksonville, Florida restricted areas.

(a) The areas. (1) The restricted areas shall encompass all navigable waters of the United States, as defined at 33 CFR 329, contiguous to the area identified as Blount Island Command and Marine Corps Support Facility-Blount Island (MCSF-BI). The three areas are contiguous but each area is described separately below for clarification.

(2) Area 1. Commencing from the shoreline at the northwest portion of the facility, at latitude 30°24′46.10″ N, longitude 81°32′19.01″ W, thence proceed 200 yards in a northwesterly direction to latitude 30°24′49.84″ N, longitude 81°32′23.12″ W. From this point the line meanders irregularly, following the shoreline at a distance of 200 yards from the mean high water line to a point at latitude 30°23′36.75″ N, longitude 81°30′26.42″ W, thence southwesterly to a point at latitude 30°23′34.44″ N, longitude 81°30′28.80″ W, thence west southwesterly to a point at latitude 30°23′33.68″ N, longitude 81°30′32.61″ W.

(3) Area 2. This includes all waters within the area generally identified as the U.S. Marine Corps Slipway but which is also known as the Back River area and the waters out to a distance of 100 yards from the entranceway. From the last point identified in paragraph (a)(2) of this section, latitude 30°23′33.68″ N, longitude 81°30′32.61″ W, proceed west southwesterly to a point at latitude 30°23′30.93″ N, longitude 81°30′57.14″ W.

(4) Area 3. From the last point identified in paragraph (a)(3) of this section, latitude 30°23′30.93″ N, longitude 81°30′57.14″ W, the line meanders irregularly in a westerly direction, following the shoreline at a distance of 100 yards from the mean high water line to a point at latitude 30°23′26.34″ N, longitude 81°31′49.73″ W, thence proceed north to terminate at a point on the shoreline at latitude 30°23′29.34″ N, longitude 81°31′49.79″ W.

(b) The regulations. (1) With the exception of local, State and federal law enforcement entities, all persons, vessels, and other craft are prohibited from entering, transiting, anchoring, or drifting within the areas described in paragraph (a) of this section for any reason without the permission of the Commanding Officer, Marine Corps Support Facility-Blount Island, Jacksonville, Florida, or his/her authorized representative.

(2) The restriction noted in paragraph (b)(1) of this section is in effect 24 hours a day, 7 days a week.

(3) Warning signs will be posted near the MCSF-BI shoreline advising boaters of the restrictions in this section.

(c) Enforcement. (1) The regulations in this section shall be enforced by the Commanding Officer, Marine Corps Support Facility-Blount Island, Jacksonville, Florida, and/or such persons or agencies as he/she may designate.

(2) Enforcement of the regulations in this section will be accomplished utilizing the Department of Defense Force Protection Condition (FPCON) System. From the lowest security level to the highest, Force Protection Conditions levels are titled Normal, Alpha, Bravo, Charlie and Delta. The regulations in this section will be enforced as noted in paragraph (b) of this section, or at the discretion of the Commanding Officer.

Dated: September 12, 2008.
James R. Hannon, Jr.,
Acting Chief, Operations, Directorate of Civil Works.

[FR Doc. E8-21895 Filed 9-17-08; 8:45 am]

BILLING CODE 3710-92-P